DEPARTMENT OF THE INTERIOR

Fish and Wildlife Service

50 CFR Part 32

[Docket No. FWS-HQ-NWRS-2022-0055; FXRS12610900000-223-FF09R20000]

RIN 1018-BF66

2022-2023 Station-Specific Hunting and Sport Fishing Regulations; Correction

AGENCY: Fish and Wildlife Service, Interior.

ACTION: Final rule; correction.

SUMMARY: We, the U.S. Fish and Wildlife Service (Service), are correcting one amendatory instruction in a final rule that published in the Federal Register on September 16, 2022. That rule opened, for the first time, two National Wildlife Refuges (NWRs, refuges) that are currently closed to hunting and sport fishing. In addition, the rule opened or expanded hunting or sport fishing at 16 other NWRs and added pertinent station-specific regulations for other NWRs that pertain to migratory game bird hunting, upland game hunting, big game hunting, or sport fishing for the 2022-2023 season.

DATES: Effective September 1, 2026.

FOR FURTHER INFORMATION CONTACT: Kate Harrigan, (703) 358-2440.

SUPPLEMENTARY INFORMATION: In the final rule that published in the Federal Register on September 16, 2022, at 87 FR 57108, the following correction is made:

§ 32.33 [Corrected]

On page 57129, in the third column, in amendment 6, the instruction “Effective September 1, 2026, § 32.33 is further amended by revising paragraph (c)(1)(iii) to read as follows:” is corrected to read “Effective September 1, 2026, § 32.33 is further amended by adding paragraph (c)(1)(iii) to read as follows:”

Madonna Baucum,
Chief, Policy and Regulations Branch, U.S. Fish and Wildlife Service.

[FR Doc. 2022-20553 Filed 9-21-22; 8:45 am]

BILLING CODE 4333-15-P